FEDERAL COMMUNICATIONS COMMISSION

47 CFR Part 73

[DA 06-12]

Radio Broadcasting Services; Augusta, KY

AGENCY: Federal Communications Commission.

ACTION: Final rule; denial of petition for reconsideration.

SUMMARY: This document denies a Petition for Reconsideration filed by Augusta/Bracken Broadcasting directed at the staff's letter action dismissing the Petition for Rulemaking proposing the allotment of Channel 294A at Augusta, Kentucky, as the community's first local aural transmission service.

FOR FURTHER INFORMATION CONTACT: Sharon P. McDonald, Media Bureau (202) 418-2180.

SUPPLEMENTARY INFORMATION: This is a synopsis of the Commission's Memorandum Opinion and Order, adopted January 4, 2006 and released January 6, 2006. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC, 20054, telephone 1-800-378-3160 or http://www.BCPIWEB.com. The Commission will not send a copy of this Memorandum Opinion and Order pursuant to the Congressional Review Act, see 5 U.S.C. 801(a)(1)(A), because the aforementioned petition for reconsideration was denied.

Federal Communications Commission.
John A. Karousos,
Assistant Chief, Audio Division, Media Bureau.

[FR Doc. 06-577 Filed 1-24-06; 8:45 am]

BILLING CODE 6712-01-P